NATIONAL ARCHIVES AND RECORDS ADMINISTRATION

36 CFR Part 1253

[Docket NARA-09-0002]

RIN 3095-AB61

NARA Facility Locations and Hours

AGENCY: National Archives and Records Administration (NARA).

ACTION: Final rule.

SUMMARY: NARA is changing the hours open to the public for our Kansas City, Missouri, and New York City regional archives. The Kansas City regional archives relocated on March 17, 2009, to the Union Station Complex at 400 West Pershing Road, Kansas City, Missouri. NARA is shifting the hours open to the public at the New York City regional archives to better serve the public for the range of hours covering the majority of visits. This rule will affect the public.

DATES: Effective date: October 16, 2009.

FOR FURTHER INFORMATION CONTACT: Marilyn Redman at 301-837-3174.

SUPPLEMENTARY INFORMATION: The location of NARA's Kansas City regional archives has changed. This document updates 36 CFR Part 1253 with the new location information. Also, NARA is changing the hours for our Kansas City location and existing New York City location.

NARA published a proposed rule on June 12, 2009, in the Federal Register (74 FR 27956) for a 60 day public comment period. We notified several of our constituent groups by e-mail and provided a notice about the proposed rule on our Web site, http://www.archives.gov. The public comment period closed on August 11, 2009; we received one public comment. The commenter remarked only about the change in hours and agreed that the change made sense if that would assist visitors. The commenter added that it would be helpful to have one night during the week or longer hours on Saturday for those who cannot visit during conventional business hours. The comment does not specify whether the concern relates to either, or to both, research locations. If a need for additional hours becomes evident in the future, and available resources support extending our hours, we will further explore the matter. As a result, we have made no changes in this final rule.

This rule is not a significant regulatory action for the purposes of Executive Order 12866 and has not been reviewed by the Office of Management and Budget (OMB). As required by the Regulatory Flexibility Act, it is hereby certified that this rule will not have a significant impact on a substantial number of small entities because this rule applies to individual researchers. This rule does not have any federalism implications. This rule is not a major rule as defined in 5 U.S.C. Chapter 8, Congressional Review of Agency Rulemaking.

List of Subjects in 36 CFR Part 1253

Archives and records.

For the reasons set forth in the preamble, NARA amends part 1253 of title 36, Code of Federal Regulations, as follows:

PART 1253—LOCATIONS OF RECORDS AND HOURS OF USE

1. The authority citation for part 1253 continues to read as follows:

Authority: 44 U.S.C. 2104(a).

2. Amend § 1253.7 by revising paragraphs (c) and (g) as follows:

§ 1253.7 Regional Archives.

* * * * *

(c) NARA—Northeast Region (New York City) is located at 201 Varick Street, 12th Floor, New York, NY 10014-4811 (entrance on Houston Street, between Varick and Hudson). The hours are 9 a.m. to 5 p.m., Monday through Friday. The telephone number is 212-401-1620 or Toll Free 1-866-840-1752.

* * * * *

(g) NARA—Central Plains Region (Kansas City) is located at 400 West Pershing Road, Kansas City, MO 64108. The hours are 8 a.m. to 4 p.m., Tuesday through Saturday. The telephone number is 816-268-8000.

* * * * *

Dated: September 11, 2009.
Adrienne C. Thomas,
Acting Archivist of the United States.

[FR Doc. E9-22403 Filed 9-15-09; 8:45 am]

BILLING CODE 7515-01-P